DEPARTMENT OF HOMELAND SECURITY

Federal Emergency Management Agency

44 CFR Part 67

[Docket ID FEMA-2008-0020; Internal Agency Docket No. FEMA-B-1049]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 24, 2009.

ADDRESSES: The corresponding preliminary Flood Insurance Rate Map (FIRM) for the proposed BFEs for each community are available for inspection at the community's map repository. The respective addresses are listed in the table below.

You may submit comments, identified by Docket No. FEMA-B-1049, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Greene County, Alabama, and Incorporated Areas
Boligee Canal | Approximately 1,372 feet downstream of County Road 81 | None | +117 | City of Boligee.
| Approximately 193 feet upstream of County Road 81 | None | +117 |
Tombigbee River | Approximately 2.97 miles upstream of I-20 | None | +117 | City of Boligee.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Boligee
Maps are available for inspection at 8 City Hall Circle, Boligee, AL 35443.
Mesa County, Colorado, and Incorporated Areas
Gold Star Canyon | Just above the confluence with Colorado River | None | +4518 | Unincorporated Areas of Mesa County, City of Grand Junction.
| Just upstream of South Broadway | None | +4805 |
Kannah Creek | Just above the confluence with Indian Creek | None | +4766 | Unincorporated Areas of Mesa County.
| Approximately 320 feet upstream of Upper Kannah Creek Road | None | +6093 |
Kannah Creek Lower Split Flow | Just above confluence with Kannah Creek | None | +4806 | Unincorporated Areas of Mesa County.
| Just below divergence from Kannah Creek | None | +4826 |
Kannah Creek Upper Split Flow | Just above confluence with Kannah Creek | None | +4894 | Unincorporated Areas of Mesa County.
| Just below divergence from Kannah Creek | None | +4935 |
Red Canyon | Just above confluence with Colorado River | None | +4546 | Unincorporated Areas of Mesa County, City of Grand Junction.
| Approximately 5,670 feet above South Camp Road | None | +5020 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Grand Junction
Maps are available for inspection at 250 North 5th Street, Grand Junction, CO 81501.
Unincorporated Areas of Mesa County
Maps are available for inspection at 544 Rood Avenue, Grand Junction, CO 81502.
Willow Creek | At Confluence with Blue River | +8681 | +8682 | Town of Silverthorne, Unincorporated Areas of Summit County.
| Approximately 1,235 feet upstream of Ruby Road | +8873 | +8874 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Silverthorne
Maps are available for inspection at 601 Center Circle, Silverthorne, CO 80493.
Unincorporated Areas of Summit County
Maps are available for inspection at 208 East Lincoln, Breckenridge, CO 80424-0068.
Cobb County, Georgia, and Incorporated Areas
Chattahoochee River | Above Morgan Falls Dam | +851 | +854 | Unincorporated Areas of Cobb County.
| Approximately 1,000 feet downstream from confluence of Willeo Creek | +861 | +862 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Cobb County
Maps are available for inspection at 100 Cherokee Street, Marietta, GA 30090.
Fulton County, Georgia, and Incorporated Areas
Autry Mill Creek | Backwater from Chattahoochee River | *891 | *889 | City of Johns Creek.
Chattahoochee River | Upstream of Morgan Falls Dam | *857 | *854 | Unincorporated Areas of Fulton County, City of Johns Creek, City of Roswell, City of Sandy Springs.
| Just downstream of McGinnis Ferry Road | None | *907
Johns Creek | At confluence with Chattahoochee River | *891 | *890 | City of Johns Creek.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Johns Creek
Maps are available for inspection at 1200 Findley Road, Suite 400, Johns Creek, GA 30097.
City of Roswell
Maps are available for inspection at 38 Hill Street, Roswell, GA 30075.
City of Sandy Springs
Maps are available for inspection at 7840 Roswell Road, Sandy Springs, GA 30350.
Unincorporated Areas of Fulton County
Maps are available for inspection at 141 Pryor Street, Suite 10044, Atlanta, GA 30303.
Chattahoochee River | Just upstream of McGinnis Ferry Road | +911 | +908 | Unincorporated Areas of Forsyth County.
| Just downstream of Buford Dam | +920 | +921
Dick Creek | At confluence with Chattahoochee River | +913 | +909 | Unincorporated Areas of Forsyth County.
James Creek | At confluence with Chattahoochee River | +918 | +916 | Unincorporated Areas of Forsyth County.
* National Geodetic Vertical Datum.
# Depth in feet above ground.
+ North American Vertical Datum.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Forsyth County
Maps are available for inspection at 110 East Main Street, Cumming, GA 30040.
Gwinnett County, Georgia, and Incorporated Areas
Brushy Creek | At confluence with Chattahoochee River | +909 | +906 | Unincorporated Areas of Gwinnett County.
Chattahoochee River | Just above Holcomb Bridge Road | +885 | +884 | City of Sugar Hill, City of Berkeley Lake, City of Duluth, City of Suwanee, Unincorporated Areas of Gwinnett County.
| Approximately 4,000 feet downstream from Buford Dam | +919 | +920
Level Creek | At confluence with Chattahoochee River | +914 | +911 | Unincorporated Areas of Gwinnett County.
Mill Creek (Stream 6) | At confluence with Chattahoochee River | +898 | +895 | City of Berkeley Lake, Unincorporated Areas of Gwinnett County.
Richland Creek | At confluence with Chattahoochee River | +918 | +917 | Unincorporated Areas of Gwinnett County.
Rogers Creek | At confluence with Chattahoochee River | +902 | +899 | City of Duluth, Unincorporated Areas of Gwinnett County.
Stream 1 | At confluence with Chattahoochee River | +887 | +886 | Unincorporated Areas of Gwinnett County.
Stream 10 | At confluence with Chattahoochee River | +907 | +903 | Unincorporated Areas of Gwinnett County.
Stream 2 | At confluence with Chattahoochee River. | +888 | +887 | Unincorporated Areas of Gwinnett County.
Stream 3 | At confluence with Chattahoochee River | +891 | +889 | Unincorporated Areas of Gwinnett County.
Stream 4 | At confluence with Chattahoochee River | +893 | +891 | Unincorporated Areas of Gwinnett County.
Stream 5 | At confluence with Chattahoochee River | +897 | +894 | Unincorporated Areas of Gwinnett County.
Stream 8 | At confluence with Chattahoochee River | +900 | +897 | City of Duluth, Unincorporated Areas of Gwinnett County.
Suwanee Creek | At confluence with Chattahoochee River | +908 | +905 | Unincorporated Areas of Gwinnett County.
Swilling Creek | At confluence with Chattahoochee River | +899 | +896 | City of Duluth, Unincorporated Areas of Gwinnett County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Berkeley Lake
Maps are available for inspection at 4040 South Berkeley Road, Northwest, Berkeley Lake, GA 30096.
City of Duluth
Maps are available for inspection at 3167 Main Street, 2nd Floor, Duluth, GA.
City of Sugar Hill
Maps are available for inspection at 4988 West Broad Street, Sugar Hill, GA 30518.
City of Suwanee
Maps are available for inspection at 373 Highway 23, Suwanee, GA 30024.
Unincorporated Areas of Gwinnett County
Maps are available for inspection at 75 Langley Drive, Lawrenceville, GA 30045.
Lafourche Parish, Louisiana, and Incorporated Areas
Gulf of Mexico | From the west at the Terrebonne Parish border along the shoreline of the Gulf of Mexico to the south. To the east border of Jefferson Parish and St. Charles Parish and to the northern border of St. James Parish and St. John the Baptist Parish | + 2-12 | + 2-18 | Unincorporated Areas of Lafourche Parish, City of Raceland, City of Thibodaux, Town of Golden Meadow, Town of Lockport.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Raceland
Maps are available for inspection at P.O. Box 5548, Thibodaux, LA 70302.
City of Thibodaux
Maps are available for inspection at P.O. Box 5418, Thibodaux, LA 70302.
Town of Golden Meadow
Maps are available for inspection at P.O. Box 307, Golden Meadow, LA 70357.
Town of Lockport
Maps are available for inspection at 710 Church Street, Lockport, LA 70374.
Unincorporated Areas of Lafourche Parish
Maps are available for inspection at 402 Green Street, Thibodaux, LA 70302.
Rolette County, North Dakota, and Incorporated Areas
Ox Creek | 501 feet upstream of Belcourt Southern Corporate Limit | None | +1903 | Chippewa Indian Reservation, Turtle Mountain Band.
| 27 feet downstream of Belcourt Lake | None | +2015
Ox Creek Breakout | 100 feet upstream of 99th Street NE | None | +1971 | Chippewa Indian Reservation, Turtle Mountain Band.
| 2,154 feet upstream of 99th Street NE | None | +1972
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Chippewa Indian Reservation, Turtle Mountain Band
Maps are available for inspection at Highway 5 West, Belcourt, ND 58316.
Lucas County, Ohio, and Incorporated Areas
Barnum Ditch | Just above the confluence with Tifft Ditch | None | +617 | City of Toledo.
| Approximately 350 feet downstream of Willis Boulevard | None | +626
Blue Creek | Approximately 1,100 feet upstream of Finzel Road | +641 | +640 | Village of Whitehouse, Unincorporated Areas of Lucas County.
| Downstream side of Fulton Lucas Road | None | +665
Blystone Ditch | Upstream side of Dutch Road | +645 | +644 | Village of Waterville, Unincorporated Areas of Lucas County.
| Downstream side of Bluebird Train Railroad | None | +659
Comstock Ditch | Upstream side of Brint Road | None | +675 | Unincorporated Areas of Lucas County.
| Downstream side of Mitchaw Road | None | +679
Crane Creek | Approximately 0.6 mile downstream of Nissen Road | None | +579 | Unincorporated Areas of Lucas County.
| Approximately 2,000 feet upstream of Ofper Lentz Road | None | +584
Deline Ditch | At the confluence with Heldman Ditch (East) | +601 | +606 | City of Toledo
| Downstream side of Hill Avenue | +627 | +629
Deline Ditch Overflow | At the confluence with Deline Ditch | None | +614 | City of Toledo.
| Just below the divergence from Deline Ditch | None | +625
Dennis Ditch | At the confluence with Heldman Ditch (East) | +597 | +604 | City of Toledo.
| Approximately 875 feet upstream of South Avenue | +624 | +623 |
Detwiler Ditch | Upstream side of Summit Street | None | +578 | City of Toledo.
| Approximately 0.56 mile upstream of I-280 | None | +578
Disher Ditch | Upstream side of Rupp Road | +641 | +640 | Village of Whitehouse, Unincorporated Areas of Lucas County.
| Downstream side of Berkey Southern Highway | None | +657
Disher Ditch Overflow | At the confluence with Blue Creek | None | +640 | Village of Whitehouse.
| Downstream side of Heller Road | None | +653
Duck Creek | At mouth at Maumee Bay | None | +578 | City of Oregon, City of Toledo.
| Downstream side of Consaul Street | None | 578
Eisenbraum Ditch | Approximately 175 feet downstream of Elsie Avenue | +619 | +618 | City of Toledo.
| Downstream side of West Alexis Highway | +650 | +651
Good Ditch | South of Angola Road near Holland Park Boulevard | None | +633 | Village of Holland.
| South of Angola Road approximately 60 feet west of Holland Park Boulevard | None | +633
Haefner Ditch | At the confluence with Hill Ditch | +597 | +604 | City of Toledo, Unincorporated Areas of Lucas County.
| Downstream side of I-475 | +637 | +638
Heldman Ditch (East) | Downstream side of Edgevale Road | None | +594 | City of Toledo, Unincorporated Areas of Lucas County, Village of Ottawa Hills.
| Downstream side of West Bancroft Street | +666 | +665
Heldman Ditch (West) | At the confluence with Prairie Ditch | +669 | +668 | Unincorporated Areas of Lucas County.
| Downstream side of North Crissey Road | +669 | +668
Hill Ditch | At the confluence with Heldman Ditch (East) | +597 | +604 | City of Toledo, Unincorporated Areas of Lucas County.
| Just below the confluence with Smith | +640 | +639
Jamieson Ditch | At the confluence with Silver Creek | +592 | +595 | City of Toledo.
| Downstream side of Lewis Avenue | +601 | +600
Ketcham Ditch | Approximately 700 feet downstream of Jackman Road | +607 | +609 | City of Toledo.
| Downstream side of Adella Street | +618 | +619
Lone Oak Ditch | Upstream side of Winslow Road | None | +644 | Village of Whitehouse, Unincorporated Areas of Lucas County.
| Approximately 70 feet downstream of Berkey Southern Highway | None | +657
Maumee Bay | West of the mouth of Driftmeyer Ditch | +579 | +578 | City of Oregon, City of Toledo.
| At the northern boundary of Lucas County | +579 | +578
Maumee River | At mouth at Maumee Bay | +579 | +578 | City of Toledo.
| Upstream side of Norfolk Southern Railroad | +579 | +578
Mayer Ditch | Downstream side of I-475 | None | +636 | Unincorporated Areas of Lucas County.
| Approximately 475 feet downstream of Dorr Street | None | +639
McPeak Ditch | Approximately 100 feet above the confluence with Tenmile Creek | +647 | +646 | City of Sylvania.
| Approximately 1,300 feet upstream of Winding Way | +667 | +668
Mud Creek | At the confluence with Detwiler Creek | None | +578 | City of Toledo.
| Downstream side of Hoffman Road | None | +578
North Branch Ketcham Ditch | Downstream side of Douglas Road | None | +620 | City of Toledo.
| Approximately 650 feet upstream of Secor Road | None | +631
Ottawa River | Approximately 0.91 mile downstream of Summit Street | +579 | +578 | City of Oregon, City of Toledo.
| Downstream side of CSX Transportation Railroad | +579 | +578
Otter Creek | Downstream side of Corduroy Road | None | +578 | City of Toledo.
| At mouth at Maumee Bay | +579 | +578
| Upstream side of CSX Transportation Railroad | None | +589
| Approximately 350 feet upstream of CSX Transportation Railroad | None | +589
| Upstream side of CSX Transportation Railroad | None | +590
| Approximately 475 feet downstream of Dover Place | None | +590
Peterson Ditch | Upstream side of Haughton Drive | +613 | +614 | City of Toledo.
| Approximately 100 feet upstream of Goddard Road | +614 | +615
Potter Ditch | At the confluence with Heldman Ditch (East) | +634 | +635 | City of Toledo, Unincorporated Areas of Lucas County.
| Downstream side of Derbyshire Road | +634 | +635
Schmitz Ditch | At the confluence with Tenmile Creek | None | +694 | Village of Berkey.
| Downstream side of Lathrop Road | None | +707
Schneider Ditch | Just above the confluence with Williams Ditch | +619 | +621 | City of Toledo.
| Downstream side of Hill Avenue | +620 | +621
Shantee Creek | At the confluence with Silver Creek | +582 | +583 | City of Toledo, Unincorporated Areas of Lucas County.
| Approximately 225 feet upstream of Tremainsville Road | +614 | +612
| Approximately 1,100 feet downstream of Summit Street | +579 | +578
| Approximately 300 feet downstream of Hagman Road | +579 | +578
Shantee Creek Overflow Channel 1 | Approximately 175 feet upstream of Lewis Avenue | None | +599 | City of Toledo.
| Just below the divergence from Shantee Creek | None | +611
Shantee Creek Overflow Channel 2 | At the confluence with Shantee Creek | None | +599 | City of Toledo.
| Approximately 100 feet downstream of Jackman Road | None | +609
Sharp Ditch | Upstream side of Brint Road | None | +679 | Unincorporated Areas of Lucas County.
| Approximately 1.0 mile upstream of Brint Road | None | +683
Silver Creek | Upstream side of CN North America Railroad | +579 | +578 | Unincorporated Areas of Lucas County, City of Toledo.
| Approximately 100 feet upstream of Woodview Drive | None | +639
Smith Ditch South | At the confluence with Hill Ditch | +640 | +639 | Unincorporated Areas of Lucas County.
| Approximately 200 feet upstream of Wimbledon Park Boulevard | +660 | +661
South Branch Silver Creek | At the confluence with Silver Creek | None | +628 | City of Toledo.
| Approximately 1,150 feet upstream of Rambo Lane | None | +633
Tenmile Creek | Upstream side of Herr Road | +669 | +668 | Village of Berkey, Unincorporated Areas of Lucas County.
| Downstream side of North Fulton Lucas Road | None | +708
Tifft Ditch | Approximately 225 feet upstream of Tremainsville Road | +614 | +612 | City of Toledo, Unincorporated Areas of Lucas County.
| Approximately 300 feet upstream of Talmadge Road | +633 | +634
Vanderpool Ditch | Downstream side of McCord Road | +642 | +644 | Unincorporated Areas of Lucas County.
| Approximately 375 feet downstream of King Road | +657 | +656
Williams Ditch | Upstream side of Norfolk Southern Railroad | +613 | +614 | City of Toledo.
| Approximately 175 feet downstream of Hill Avenue | +619 | +621
Wing Ditch | Just above confluence with Silver Creek | None | +633 | City of Toledo.
| Approximately 75 feet downstream of Merle Street | None | +637
*National Geodetic Vertical Datum.
+North American Vertical Datum.
# Depth in feet above ground.
‸Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Oregon
Maps are available for inspection at 5330 Seaman Road, Oregon, OH 43616.
City of Sylvania
Maps are available for inspection at 6730 Monroe Street, Suite 101, Sylvania, OH 43560.
City of Toledo
Maps are available for inspection at One Government Center, Suite 1600, Toledo, OH 43604.
Unincorporated Areas of Lucas County
Maps are available for inspection at 1115 South McCord Road, Holland, OH 43528.
Village of Berkey
Maps are available for inspection at 12360 Sylvania-Metamora Road, Berkey, OH 45304.
Village of Holland
Maps are available for inspection at 1245 Clarion Avenue, Holland, OH 43528.
Village of Ottawa Hills
Maps are available for inspection at 2125 Richards Road, Toledo, OH 43606.
Village of Waterville
Maps are available for inspection at 25 North Second Street, Waterville, OH 43566.
Village of Whitehouse
Maps are available for inspection at 6925 Providence Street, Whitehouse, OH 43571.
Ottawa County, Oklahoma, and Incorporated Areas
Belmont Run | Approximately 1,317 feet upstream of 30th Avenue | None | +803 | City of Miami, Town of North Miami, Unincorporated Areas of Ottawa County.
| Approximately 1,288 feet upstream of Newman Road | None | +805
Fairgrounds Branch | Approximately 700 feet upstream of E Street | None | +774 | Unincorporated Areas of Ottawa County.
| Approximately 0.58 miles upstream of E Street | None | +774
Neosho River | Just upstream of E Street | None | +775 | Unincorporated Areas of Ottawa County.
| Approximately 0.93 miles upstream from State Highway 69 | None | +776
Warren Branch | Approximately 434 feet upstream of Main Street | None | +869 | Town of Peoria, Unincorporated Areas of Ottawa County.
| Approximately 1,826 feet upstream of Modoe Street | None | +885
Wyandotte Ditch | Approximately 1,320 feet downstream of Main Street | +756 | +757 | Town of Wyandotte.
| Approximately 904 feet upstream of South 650 Road | +780 | +789
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Miami
Maps are available for inspection at the Civic Center, 129 5th Street, Northwest, Miami, OK 74354.
Town of North Miami
Maps are available for inspection at the Ottawa County Courthouse, 102 East Central Avenue, Suite 202, Miami, OK 74354.
Town of Peoria
Maps are available for inspection at the Ottawa County Courthouse, 102 East Central Avenue, Suite 202, Miami, OK 74354.
Town of Wyandotte
Maps are available for inspection at City Hall, 14 North Main Street, Wyandotte, OK 74370.
Unincorporated Areas of Ottawa County
Maps are available for inspection at the Ottawa County Courthouse, 102 East Central Avenue, Suite 202, Miami, OK 74354.
Umatilla County, Oregon, and Incorporated Areas
Iskuupla Creek | At confluence with Umatilla River | None | +1690 | Umatilla Indian Reservation.
| Approximately 1.0 mile upstream from Bingham Road | None | +1779
Iskuupla Creek left bank split | Approximately 3,000 feet west along Bingham Road from Iskuupla Creek | None | +1682 | Umatilla Indian Reservation.
| At divergence from Iskuupla Creek | None | +1707
Meacham Creek | At confluence with Umatilla River | None | +1762 | Umatilla Indian Reservation.
| Just downstream of Meacham Creek Road Bridge and Railroad Bridge | None | +1819
Umatilla River | Just upstream of State Highway 11 Bridge | +1106 | +1111 | City of Pendleton, Umatilla Indian Reservation, Unincorporated Areas of Umatilla County.
| Approximately 700 feet downstream of confluence of Ryan Creek | None | +1908
Walla-Walla River | At SE 17th Avenue | None | #1 | City of Milton-Freewater, Unincorporated Areas of Umatilla County.
| At NE 15th Avenue | None | #1
Wildhorse Creek | At Range line 32E/33E | None | +1142 | Unincorporated Areas of Umatilla County.
| At Township line 2N/3N | None | +1154
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Milton-Freewater
Maps are available for inspection at 722 South Main Street, Milton-Freewater, OR 97862.
City of Pendleton
Maps are available for inspection at 500 Southwest Dorion Avenue, Pendleton, OR 97801.
Umatilla Indian Reservation
Maps are available for inspection at 73239 Confederated Way, Pendleton, OR 97801.
Unincorporated Areas of Umatilla County
Maps are available for inspection at 216 Southeast 4th Street, Pendleton, OR 97801.
Spartanburg County, South Carolina, and Incorporated Areas
Jimmies Creek (North) | Approximately 125 feet downstream of Tucapau Road | None | +779 | City of Wellford.
| Approximately 2,190 feet upstream of Tucapau Road | None | +789
Little Buck Creek | Approximately 750 feet downstream of Richland Street | None | +809 | City of Chesnee.
| Approximately 280 feet upstream of Cherokee Street | None | +841
Little Buck Creek Tributary 1 | Confluence with Little Buck Creek | None | +815 | City of Chesnee.
| Approximately 1,100 feet upstream of the confluence with Little Buck Creek | None | +851
Pacolet River Tributary 1 | Approximately 1,350 feet downstream of Church Street | None | +731 | Town of Cowpens.
| Approximately 290 feet upstream of Church Street | None | +765
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Chesnee
Maps are available for inspection at 201 West Cherokee Street, Chesnee, SC 29323.
City of Wellford
Maps are available for inspection at 127 Syphrit Road, Wellford, SC 29385.
Town of Cowpens
Maps are available for inspection at 530 North Main Street, Cowpens, SC 29330.
Sanborn County, South Dakota, and Incorporated Areas
James River | Approximately 2,133 feet downstream of 243rd Street | None | +1226 | Unincorporated Areas of Sanborn County.
| Approximately 1,162 feet upstream of 221st Street | None | +1237
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Sanborn County
Maps are available for inspection at 604 West 6th Street, Woonsocket, SD 57385.
Val Verde County, Texas, and Incorporated Areas
Calveras Creek | Confluence with San Felipe Creek | None | +924 | Unincorporated Areas of Val Verde County.
| Approximately 0.6 miles upstream of Gilberto Road | None | +1015
Cantu Branch | Just upstream of Dodson Avenue | None | +1035 | Unincorporated Areas of Val Verde County.
| Approximately 1,222 feet upstream from Grace Drive | None | +1046
San Felipe Creek | Just upstream of Gilchrist Lane | None | +911 | Unincorporated Areas of Val Verde County.
| Just upstream of River Road | None | +929
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Val Verde County
Maps are available for inspection at the Del Rio City Hall, 109 West Broadway Street, Del Rio, TX 78840.

(Catalog of Federal Domestic Assistance No. 97.022, “Flood Insurance.”)

Dated: May 14, 2009.
Deborah S. Ingram,
Acting Deputy Assistant Administrator for Mitigation, Mitigation Directorate, Department of Homeland Security, Federal Emergency Management Agency.

[FR Doc. E9-12101 Filed 5-22-09; 8:45 am]

BILLING CODE 9110-12-P